ENVIRONMENTAL PROTECTION AGENCY

[FRL-7099-3]

Notice of Availability of National Management Measures to Protect and Restore Wetlands and Riparian Areas for the Abatement of Nonpoint Source Pollution and Request for Comments

AGENCY: Environmental Protection Agency (EPA).

ACTION: Notice of availability and request for comment.

SUMMARY: EPA has developed and is requesting comment on draft technical guidance for protecting and restoring wetlands and riparian areas from sources of nonpoint pollution and using vegetated treatment systems (vegetative filter strips and constructed wetlands) for controlling nonpoint source pollution. This guidance is intended to provide technical assistance to state program managers and others on the best available, economically achievable means of protecting and restoring wetlands and riparian areas from nonpoint source pollution. Additionally, this guidance provides technical assistance for state program managers on the use of vegetated treatment systems to control nonpoint source pollution. The guidance provides background information about nonpoint source pollution, including where it comes from and how it enters the Nation's waters. It also presents many examples of how to protect and restore the many functions of wetlands and riparian areas from the impacts of nonpoint source pollution. The guidance concludes with a variety of illustrations for using vegetated treatment systems to control sources of nonpoint pollution.

Reviewers should note that the draft technical guidance is entirely consistent with the Guidance Specifying Management Measures for Sources of Nonpoint Pollution in Coastal Water (EPA 840-B-92-002), which EPA published in January 1993 under the authority of section 6217(g) of the Coastal Zone Act Reauthorization Amendments of 1990 (CZARA). The draft document does not supplant or replace the requirements of the 1993 document. It enhances the technical information contained in the 1993 coastal guidance to include inland as well as coastal context and to provide updated technical information based on current understanding and implementation of best management practices (BMP) controls. It does not set new or additional standards for either CZARA section 6217 or Clean Water Act section 319 programs.

EPA will consider comments on this draft guidance and will then issue final guidance.

DATES: Written comments should be addressed to the person listed directly below by February 4, 2002.

ADDRESSES: Comments should be sent to Chris Solloway, Assessment and Watershed Protection Division (4503-F), U.S. Environmental Protection Agency, 1200 Pennsylvania Avenue, NW., Washington, DC 20460. Non-US Postal Service comments should be sent to Chris Solloway, Assessment and Watershed Protection Division, U.S. Environmental Protection Agency, Room 200, 499 S. Capitol Street, SW., Washington, DC 20003. Faxes should be sent to (202) 260-7024. Comments via E-mail may be sent to Solloway.Chris@epa.gov.

The complete text of the draft guidance is available on EPA's Internet site on the Nonpoint Source Control Branch's homepage at http://www.epa.gov/owow/nps>. Copies of the complete draft can also be obtained in electronic or hard copy format by request from Chris Solloway at the above address, by E-mail at Solloway.Chris@epa.gov>, or by calling (202) 260-3008.

FOR FURTHER INFORMATION: Contact Chris Solloway at (202) 260-3008.

SUPPLEMENTARY INFORMATION:

I. Background

In 1993, under the authority of section 6217(g) of the Coastal Zone Act Reauthorization Amendments, EPA issued Guidance Specifying Management Measures for Sources of Nonpoint Pollution in Coastal Waters. That guidance document details management measures appropriate for the control of five categories of nonpoint sources of pollution in the coastal zone: agriculture, forestry, urban areas, marinas and recreational boating, and hydromodification. The document also includes management measures for wetlands, riparian areas, and vegetated treatment systems because they are important to the abatement of nonpoint source pollution in coastal waters. States and territories were required to adopt measures “in conformity” with the coastal management measures guidance for their Coastal Nonpoint Pollution Control Programs.

State, territory, and tribal water quality assessments continue to identify nonpoint source pollution as a major cause of degradation in surveyed waters nationwide. In 1987 Congress enacted section 319 of the Clean Water Act to establish a national program to control nonpoint sources of water pollution. Under section 319, States, territories, and tribes address nonpoint source pollution by assessing the nonpoint source pollution problems within the State, territory, or tribal lands; identifying the sources of pollution; and implementing management programs to control the pollution. Section 319 also authorizes EPA to award grants to States, territories, and tribes to assist them in implementing management programs that EPA has approved. Program implementation includes nonregulatory and regulatory programs, technical assistance, financial assistance, education, training, technology transfer, and demonstration projects. In fiscal year 2001, Congress appropriated approximately $237 million for nonpoint source management program grants. EPA has awarded a total of approximately $1.3 billion to States, territories, and Indian tribes since 1990.

The 1993 management measures guidance, developed under the authority of CZARA, focused on conditions and examples of management measure implementation within the coastal zone. To date, technical guidance on the best available, economically achievable measures for controlling nonpoint sources with a national focus has not been released. The draft national management measures guidance for wetlands is intended to partially address this gap. Although the practices detailed in the 1993 coastal guidance apply generally to inland areas, EPA has recognized the utility of developing and publishing technical guidance that explicitly addresses nonpoint source pollution on a nationwide basis. Moreover, additional information and examples from research and experience to date with implementation of the management measures are available to enrich the national guidance. These changes have helped to prompt the revision and expansion of the wetlands chapter of the 1993 guidance.

II. Scope of the Draft Wetlands Guidance—Sources of Nonpoint Source Pollution Addressed

The draft technical guidance continues to focus on the protection and restoration of wetlands and riparian areas and the use of vegetated treatment systems to control nonpoint sources of pollution identified for the 1993 coastal guidance by EPA in consultation with a number of other Federal agencies and other leading national experts. Specifically, the guidance identifies management measures for the following:

i. The protection of wetlands and riparian areas.

ii. The restoration of wetlands and riparian areas.

iii. Vegetated treatment systems.

III. Approach Used To Develop Guidance

The draft national management measures guidance is based in large part on the 1993 coastal guidance. The coastal guidance was developed using a workgroup approach to draw upon technical expertise within other federal agencies as well as state water quality and coastal zone management agencies. The 1993 text has been expanded to include information on the cost and effectiveness of wetlands and riparian areas and vegetative treatment systems for removing nonpoint source pollution, descriptions of ways to protect wetlands and riparian areas, resources for planning and implementing wetlands and riparian area restoration projects, a discussion on mitigation banking, and examples of projects that used vegetated treatment systems to control nonpoint source pollution.

IV. Request for Comments

EPA is soliciting comments on the draft guidance on management measures to protect and restore wetlands and riparian area for the abatement of nonpoint source pollution and for the use of vegetated treatment systems. The Agency is soliciting additional information and supporting data on the measures specified in this guidance and on additional measures that may be as effective or more effective to protect and restore wetlands and riparian areas for the abatement of nonpoint source pollution and the use of vegetated treatment systems. EPA requests that commenters focus their comments on the technical soundness of the draft management measures guidance.

Dated: October 22, 2001.
G. Tracy Mehan, III,
Assistant Administrator for Water.

[FR Doc. 01-27837 Filed 11-5-01; 8:45 am]

BILLING CODE 6560-50-P